DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

The purpose of this notice is to invite written comments on accrediting agencies whose applications to the Secretary for initial or renewed recognition will be reviewed at the Advisory Committee meeting to be held on May 23-25, 2001. The notice also invites written comments on agencies submitting interim reports that will be reviewed at the May meeting. Further, the notice invites written comments on one Federal agency seeking degree-granting authority.

Where Should I Submit My Comments?

Please submit your written comments by March 5, 2001 to Carol Griffiths, Chief, Accrediting Agency Evaluation, Accreditation and State Liaison. You may contact her at the U.S. Department of Education, 1990 K Street, NW, 7th Floor, Room 7105, Washington, DC 20006-8509, telephone: (202) 219-7011. Individuals who use a telecommunications device for the deaf (TDD) may call the Federal Information Relay Service at 1-800-877-8339.

What Is the Authority for the Advisory Committee?

The National Advisory Committee on Institutional Quality and Integrity is established under Section 114 of the Higher Education Act (HEA), as amended, 20 U.S.C. 1011c. One of the purposes of the Advisory Committee is to advise the Secretary of Education on the recognition of accrediting agencies and State approval agencies.

Will This Be My Only Opportunity To Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comment.

What Happens to the Comments That I Submit?

We will review your comments, in response to this notice, as part of our evaluation of the agencies' compliance with the Secretary's Criteria for Recognition of Accrediting Agencies. The Criteria are regulations found in 34 CFR part 602 (for accrediting agencies) and in 34 CFR part 603 (for State approval agencies).

We will also respond to your comments, as appropriate, in the staff analyses we present to the Advisory Committee at its May 2001 meeting. Therefore, in order for us to give full consideration to your comments, it is important that we receive them by March 5, 2001. In all instances, your comments about agencies seeking initial or continued recognition must relate to the Criteria for the Recognition. In addition, your comments for any agency whose interim report is scheduled for review must relate to the issues raised and the Criteria for Recognition cited in the Secretary's letter that requested the interim report. You may obtain a copy of the Secretary's letter by calling (202) 219-7011.

What Happens to Comments Received After the Deadline?

We will treat any negative comments received after the deadline as complaints. If such comments, upon investigation, reveal that the accrediting agency is not acting in accordance with the Criteria for Recognition, we will take action either before or after the meeting, as appropriate. We will also notify the commentors of the disposition of those comments.

What Agencies Are on the Agenda for the Meeting?

The Secretary of Education recognizes accrediting agencies and State approval agencies for public postsecondary vocational education and nurse education if the Secretary determines that they meet the Criteria for Recognition. Recognition means that the Secretary considers the agency to be a reliable authority as to the quality of education offered by institutions or programs that are encompassed within the scope of recognition he grants to the agency. The following agencies will be reviewed during the May 2001 meeting of the Advisory Committee:

Nationally Recognized Accrediting Agencies

Petition for Initial Recognition

1. Teacher Education Accreditation Council (Requested scope of recognition: The accreditation of professional education programs in institutions offering baccalaureate and graduate degrees for the preparation of teachers and other professional personnel for elementary and secondary schools).

Petitions for Renewal of Recognition

1. Accrediting Council for Independent Colleges and Schools (Requested scope of recognition: The accreditation of private postsecondary institutions offering business and business-related programs and the accreditation and preaccreditation (“Recognized Candidate”) of junior and senior colleges of business (including senior colleges with master's degree programs), as well as independent, freestanding institutions offering only graduate business and business-related programs at the master's degree level).

2. American College of Nurse-Midwives, Division of Accreditation (Current scope of recognition: The accreditation and preaccreditation (“Preaccreditation”) of basic certificate and graduate nurse-midwifery education programs for registered nurses, as well as the accreditation and preaccreditation of pre-certification nurse-midwifery education programs) (Requested scope of recognition: The current scope of recognition plus the accreditation of midwifery education programs for non-nurses at the post-baccalaureate or higher academic level that lead to certificates or graduate degrees).

3. American Council on Pharmaceutical Education (Requested scope of recognition: The accreditation and preaccreditation (“Precandidate” and “Candidate”) of professional degree programs in pharmacy leading to the degrees of Baccalaureate in Pharmacy and Doctor of Pharmacy).

4. Association for Clinical Pastoral Education, Inc., Accreditation Commission (Requested scope of recognition: The accreditation of clinical pastoral education (CPE) centers and CPE and supervisory CPE programs).

5. American Dental Association, Commission on Dental Accreditation (Requested scope of recognition: The accreditation of predoctoral dental education programs (programs leading to the D.D.S. or D.M.D. degree); dental auxiliary education programs (dental assisting, dental hygiene and dental laboratory technology); and advanced dental educational programs (general practices residency, advanced general dentistry, and the specialties of dental public health, endodontics, oral pathology, orthodontics, oral and maxillofacial surgery, pedodontics, periodontics, and prosthodontics)).

6. American Occupational Therapy Association, Accreditation Council for Occupational Therapy Education (Current scope of recognition: The accreditation of entry-level professional occupational therapy educational programs awarding baccalaureate degrees, post-baccalaureate certificates, professional master's degrees, and combined baccalaureate/master's degrees, and also for the accreditation of occupational therapy assistant programs leading to an associate degree or certificate) (Requested scope of recognition: The current scope of recognition plus the accreditation of entry-level doctoral degree professional occupational therapy educational programs and the accreditation of programs offered principally through distance education).

7. Council on Chiropractic Education, Commission on Accreditation (Requested scope of recognition: The accreditation of Doctor of Chiropractic programs and single-purpose institutions offering the Doctor of Chiropractic program).

8. Commission on Opticianry Accreditation (Requested scope of recognition: The accreditation of two-year programs for the ophthalmic dispenser and one-year programs for the ophthalmic laboratory technician).

9. Joint Review Committee on Education in Radiologic Technology (Requested scope of recognition: The accreditation of educational programs for radiographers and radiation therapists).

10. Joint Review Committee on Educational Programs in Nuclear Medicine Technology (Requested scope of recognition: The accreditation of higher education programs for the nuclear medicine technologist).

11. Southern Association of Colleges and Schools, Commission on Colleges (Requested scope of recognition: The accreditation and preaccreditation (“Candidate for Accreditation”) of degree-granting institutions of higher education in Alabama, Florida, Georgia, Kentucky, Louisiana, Mississippi, North Carolina, South Carolina, Tennessee, Texas, and Virginia).

12. Western Association of Schools and Colleges, Accrediting Commission for Senior Colleges and Universities (Requested scope of recognition: The accreditation and preaccreditation (“Candidate for Accreditation”) of senior colleges and universities in California, Hawaii, the United States territories of Guam and American Samoa, the Republic of Palau, the Federated States of Micronesia, the Commonwealth of the Northern Marianna Islands, and the Republic of the Marshall Islands).

Interim Reports (An interim report is a follow-up report on an accrediting agency's compliance with specific criteria for recognition that was requested by the Secretary when the Secretary granted renewed recognition to the agency.)

1. American Physical Therapy Association, Commission on Accreditation in Physical Therapy Education.

2. American Psychological Association, Committee on Accreditation.

3. Commission on Collegiate Nursing Education.

4. National Accrediting Commission of Cosmetology Arts and Sciences.

5. National Association of Nurse Practitioners in Women's Health, Council on Accreditation.

6. Transnational Association of Christian Colleges and Schools, Accreditation Commission.

State Agencies Recognized for the Approval of Public Postsecondary Vocational Education

Interim Report

1. Kansas Board of Regents.

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. U.S. Marine Corps University, Quantico, VA (request to award a master's degree in Strategic Studies).

Where Can I Inspect Petitions and Third-Party Comments Before and After the Meeting?

Subject to the provisions of 5 U.S.C. 522, petitions, interim reports, and those third-party comments received in advance of the meeting, will, upon written request, be made available, on appointment, for inspection and copying at the U.S. Department of Education, 1990 K Street, NW., 7th Floor, Room 7105, Washington, DC 20006-8509, telephone (202) 219-7011 until May 4, 2001. They will be available again after the May 23-25 Advisory Committee meeting.

Authority: 5 U.S.C. Appendix 2.

Dated: January 11, 2001.
A. Lee Fritschler,
Assistant Secretary for Postsecondary Education.

[FR Doc. 01-1473 Filed 1-17-01; 8:45 am]

BILLING CODE 4000-01-P